DEPARTMENT OF HOMELAND SECURITY

[Docket No. DHS-2022-0044]

Homeland Security Advisory Council

AGENCY: The Department of Homeland Security (DHS), The Office of Partnership and Engagement (OPE).

ACTION: Amended notice of open Federal Advisory Committee meeting.

SUMMARY: The Department of Homeland Security announces the rescheduling of the public meeting of the Homeland Security Advisory Council scheduled for August 3, 2022. This meeting will be held August 24, 2022 from 3 p.m. to 4 p.m. ET. The meeting is open to the public.

DATES: The meeting announced in the Federal Register on July 19, 2022 (87 FR 43045) to be held on August 3, 2022, is rescheduled for August 24, 2022 from 3 p.m. to 4 p.m. ET.

FOR FURTHER INFORMATION CONTACT: Michael Miron at 202-891-2876 or HSAC@hq.dhs.gov.

SUPPLEMENTARY INFORMATION: DHS gives notice under the Federal Advisory Committee Act, 5 U.S.C.A. app. 2, that the meeting of the Homeland Security Advisory Council (HSAC), originally scheduled for August 3, 2022, 3 p.m. to 4 p.m. via teleconference will be held August 24, 2022, from 3 p.m. to 4 p.m. ET. The meeting is open to the public.

Dated: July 29, 2022.
Michael J. Miron,
Deputy Executive Director, Homeland Security Advisory Council, Department of Homeland Security.

[FR Doc. 2022-16620 Filed 8-1-22; 8:45 am]

BILLING CODE 9112-FN-P